DEPARTMENT OF THE INTERIOR

National Park Service

Notice of Availability of Guidance for Compliance With the Native American Graves Protection and Repatriation Act by National Park Service Offices and Units

AGENCY: National Park Service, Interior.

ACTION: Notice of availability.

SUMMARY: The National Park System Advisory Board completed a servicewide review of the process used by NPS to determine the cultural affiliation of human remains and other cultural items as required under the Native American Graves and Protection Repatriation Act (25 U.S.C. 3001 et seq.) in June 2002. The final report contains five recommendations that are being implemented by revising and updating Appendix R of the Cultural Resource Management Guideline under Director's Order 28. The revised draft “Guidance for Compliance with the Native American Graves Protection and Repatriation Act by National Park Service Offices and Units—NPS Cultural Resource Management Guideline, Appendix R” is now available for public comment.

DATES: The National Park Service will accept comments from the public on the draft “Guidance for Compliance with the Native American Graves Protection and Repatriation Act by National Park Service Offices and Units—NPS Cultural Resource Management Guideline, Appendix R” for 90 days after publication of this notice.

ADDRESSES: To request a paper copy contact: Mary S. Carroll, Park NAGPRA Program Lead, National Park Service, 12795 W. Alameda Parkway, Lakewood CO 80225, 303-969-2300, 303-987-6675 (fax), mary_carroll@nps.gov. The draft guidance also may be accessed and downloaded from the Internet at http://www.cr.nps.gov/aad/SITES/affiliation.htm.

Submit comments via regular mail or express delivery service to the address. Comments also may be submitted via e-mail to the address above.

FOR FURTHER INFORMATION CONTACT: Mary S. Carroll, Park NAGPRA Program Lead, National Park Service, 12795 W. Alameda Parkway, Lakewood CO 80225, 303-969-2300, 303-987-6675 (fax), mary_carroll@nps.gov.

SUPPLEMENTARY INFORMATION: A subcommittee of the National Park System Advisory Board (NPSAB), the Federally chartered board that advises NPS and the Secretary of the Interior on a wide range of matters, conducted a servicewide review of the process used by NPS to determine the cultural affiliation of human remains and other cultural items as required under NAGPRA.

The NPSAB provided Director Fran Mainella with the final report in June 2002. The report contains five recommendations that focus on the distinction between “cultural affiliation” and “traditionally associated peoples,” the precision of cultural affiliation determinations, and the consultation process. The recommendations are being implemented by revising and updating technical guidance on implementation of NAGPRA, specifically, Appendix R of the Cultural Resource Management Guideline under Director's Order 28.

The process of revising the guidelines has been undertaken by a group of National Park Service experts familiar with NAGPRA and representing a variety of perspectives on the implementation of NAGPRA. Members of the work group include staff familiar with regional NAGPRA coordination, Native American perspectives, park cultural resources, park management, and tribal liaison issues. As recommended by the NPSAB, tribes, Native Hawaiian organizations, and others affected by NAGPRA are being contacted for comments and input.

Dated: February 14, 2005.
Cyd Martin,
Director, Office of Indian Affairs & American Culture, IMR.

[FR Doc. 05-6831 Filed 4-5-05; 8:45 am]

BILLING CODE 4312-50-P